CHEMICAL SAFETY AND HAZARD INVESTIGATION BOARD

Sunshine Act Meeting—May 13, 2008—6:30 p.m.

In connection with its investigation into the cause of a November 22, 2006, explosion and fire at the CAI/Arnel manufacturing facility in Danvers, Massachusetts, the United States Chemical Safety and Hazard Investigation Board (CSB) announces that it will convene a public meeting on May 13, 2008, starting at 6:30 p.m. in the North Shore ballroom at the Sheraton Ferncroft Resort, 50 Ferncroft Road, Danvers, MA 01923. At the meeting CSB staff will present to the Board the results of their investigation into this incident. After the presentation by the CSB investigators there will be presentations by witnesses discussing changes in local and state safety oversight that have been proposed since the November 22, 2006, accident at CAI/Arnel. This will be followed by a public comment period prior to a Board vote on the report.

On November 22, 2006, at about 2:45 a.m., a violent explosion at the CAI/Arnel manufacturing facility rocked the town of Danvers, MA. The explosion and subsequent fire destroyed the facility, heavily damaged dozens of nearby homes and businesses, and shattered windows as far away as one mile. At least 10 residents required hospital treatment for cuts and bruises. More than 16 homes and three businesses were damaged beyond repair. Dozens of boats at the nearby marina were heavily damaged by blast overpressure and debris strikes.

Local authorities ordered the evacuation of more than 300 residents within a half-mile of the facility. Many residents could not return for many months while they waited for their houses to be rebuilt or repaired. Seventeen months after the explosion, six homes had yet to be reoccupied as repairs were not completed.

Following the conclusion of the public comment period, the Board will consider whether to approve the final report and recommendations. All staff presentations are preliminary and are intended solely to allow the Board to consider in a public forum the issues and factors involved in this case. No factual analyses, conclusions or findings presented by staff should be considered final. Only after the Board has considered the final staff presentation, listened to the witnesses and the public comments, and approved the staff report will there be an approved final record of this incident.

The meeting will be open to the public. Please notify CSB if a translator or interpreter is needed, at least 5 business days prior to the public meeting. For more information, please contact the Chemical Safety and Hazard Investigation Board at (202) 261-7600, or visit our Web site at: http://www.csb.gov.

Christopher W. Warner,
General Counsel.

[FR Doc. 08-1200 Filed 4-25-08; 3:33pm]

BILLING CODE 6350-01-P